DEPARTMENT OF COMMERCE

International Trade Administration

[A-580-839]

Certain Polyester Staple Fiber From Korea: Notice of Extension of Time Limit for 2003-2004 Administrative Review

AGENCY: Import Administration, International Trade Administration, Department of Commerce.

EFFECTIVE DATE: February 3, 2005.

FOR FURTHER INFORMATION CONTACT: Andrew McAllister or Yasmin Bordas, AD/CVD Operations, Office 1, Import Administration, International Trade Administration, U.S. Department of Commerce, 14th Street and Constitution Avenue, NW., Washington, DC 20230; telephone (202) 482-1174 or (202) 482-3813, respectively.

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On June 30, 2004, the Department published a notice of initiation of administrative review of the antidumping duty order on certain polyester staple fiber (“PSF”) from Korea, covering the period May 1, 2003, through April 30, 2004 (69 FR 39409). The preliminary results for the antidumping duty administrative review of certain PSF from Korea are currently due no later than January 31, 2005.

Extension of Time Limits for Preliminary Results

Because the Department requires additional time to review and analyze the supplemental questionnaire response, it is not practicable to complete this review within the originally anticipated time limit (i.e., January 31, 2005). Therefore, the Department is extending the time limit for completion of the preliminary results to not later than May 31, 2005, in accordance with section 751(a)(3)(A) of the Act.

We are issuing and publishing this notice in accordance with sections 751(a)(1) and 777(i)(1) of the Act.

Dated: January 28, 2005.
Barbara E. Tillman,
Acting Deputy Assistant Secretary for Import Administration.

[FR Doc. 05-2085 Filed 2-2-05; 8:45 am]

BILLING CODE 3510-DS-P